ENVIRONMENTAL PROTECTION AGENCY

40 CFR Part 300

[FRL-6727-2]

National Oil and Hazardous Substances Pollution Contingency Plan; National Priorities List

AGENCY: Environmental Protection Agency (EPA).

ACTION: Direct final rule; deletion of the Laskin/Poplar Oil Company Superfund Site from the National Priorities List; request for comments.

SUMMARY: EPA Region 5 announces the deletion of the Laskin/Poplar Oil Company Site from the National Priorities List (NPL) and requests public comment on this action. The NPL constitutes appendix B of 40 CFR part 300 which is the National Oil and Hazardous Substances Pollution Contingency Plan (NCP), which EPA promulgated pursuant to section 105 of the Comprehensive Environmental Response, Compensation, and Liability Act of 1980 (CERCLA), as amended. EPA is taking this action because it has determined that the responsible parties have implemented all responses under CERCLA; and EPA, in consultation with the State of Ohio, has determined that no further response is appropriate. Moreover, EPA and the State have determined that remedial activities conducted at the Site to date have been protective of public health, welfare, and the environment.

DATES: This “ direct final” action will be effective September 5, 2000, unless EPA receives dissenting comments by August 4, 2000. If written dissenting comments are received, EPA will publish a timely withdrawal of the rule in the Federal Register informing the public that the rule will not take effect.

ADDRESSES: Comments may be mailed to Gladys Beard, Associate Remedial Project Manager, Superfund Division, U.S. EPA, Region 5 77 W. Jackson Blvd. (SR-6J), Chicago, IL 60604. Comprehensive information on the site is available at U.S. EPA's Region 5 office and at the local information repository located at: The Ashtabula Public Library, 355 W. 44th St., Ashtablula, OH 44004. Requests for comprehensive copies of documents should be directed formally to the Region 5 Docket Office. The address and phone number for the Regional Docket Officer is Jan Pfundheller (H-7J), U.S. EPA, Region 5, 77 W. Jackson Blvd., Chicago, IL 60604, (312) 353-5821.

FOR FURTHER INFORMATION CONTACT: Richard Boice, Remedial Project Manager, at (312) 886-4740 (SR-6J), or Gladys Beard, Associate Remedial Project Manager, Superfund Division (SR-6J), U.S. EPA, Region 5, 77 W. Jackson Blvd., Chicago, IL 60604, (312) 886-7253 or Susan Pastor (P-19J), Office of Public Affairs, EPA, Region 5 77 W. Jackson Blvd., Chicago, IL 60604, (312) 353-1325; Mike Eberle, State Project Manager, at Ohio Environmental Protection Agency, 2110 East Aurora Road, Twinsburg, Ohio 44087-1969, (330) 963-1126; the Laskin Final Remediation Trust Fund, Engineering Management, Inc., 1500 Ardmore Blvd., Suite 502, Pittsburgh, Pennsylvania 15221-4468, Attn: James R. Campell, at (412) 244-0917.

SUPPLEMENTARY INFORMATION:

Table of Contents

I. Introduction

II. NPL Deletion Criteria

III. Deletion Procedures

IV. Basis for Intended Site Deletion

V. Action

I. Introduction

EPA Region 5 announces the deletion of the Laskin/Poplar Oil Company Site from the National Priorities List (NPL), appendix B of the National Oil and Hazardous Substances Pollution Contingency Plan (NCP), 40 CFR part 300. U.S. EPA identifies sites that appear to present a significant risk to public health, welfare and the environment, and maintains the NPL as the list of those sites. Sites on the NPL may be the subject of remedial actions that the Hazardous Substance Superfund Response Trust Fund (Fund) finances. Under § 300.425(e) (3) of the NCP, any site deleted from the NPL remains eligible for Fund-financed remedial actions if the conditions at the site warrant such action.

EPA will accept comments on this proposal for thirty (30) days after publication of this document in the Federal Register.

Section II of this action explains the criteria for deleting sites from the NPL. Section III discusses procedures that U.S. EPA is using for this action. Section IV discusses the history of this site and explains how the site meets the deletion criteria. Section V states U.S. EPA's prospective action of deleting the Site from the NPL unless dissenting comments are received during the comment period.

Deletion of sites from the NPL does not itself create, alter, or revoke any individual's rights or obligations. Specifically, this deletion does not affect the provisions or requirements of the Consent Decrees entered in United States v. Alvia Laskin, et al Civil Action (84-2035Y N.D. Ohio) and United States v. Anchor Motor Freight Co., et al, Civil Action No. (89CV1999 N. D. Ohio. Furthermore, deletion from the NPL does not in any way alter U.S. EPA's right to take enforcement actions, as appropriate. The NPL is designed primarily for informational purposes and to assist in Agency Management.

II. NPL Deletion Criteria

Section 300.425(e) of the NCP provides that Sites may be deleted from, or recategorized on, the NPL where no further response is appropriate. In making a determination to delete a release from the NPL, EPA shall consider, in consultation with the state, whether any of the following criteria have been met:

(i) Responsible parties or other persons have implemented all appropriate response actions required; or

(ii) All appropriate non-time critical Removal Actions or Fund-financed responses under CERCLA have been implemented, and no further response action by responsible parties is appropriate; or

(iii) The Remedial Investigation has shown that the release poses no significant threat to public health or the environment and, therefore, remedial measures are not appropriate. The Laskin/Poplar Oil Site now meets criterion (i). Criteria (ii) and (iii) are not relevant to this Site.

III. Deletion Procedures

The following procedures were followed before the proposed deletion of this Site from the NPL:

(1) All appropriate response actions, under CERCLA have been implemented and no further EPA action is appropriate; (2) The State of Ohio has concurred with the proposed deletion decision; (3) A notice has been published in the local newspaper and has been distributed to appropriate federal, state, and local officials and other interested parties announcing the commencement of a 30-day dissenting public comment period on U.S. EPA's Direct Final Action to Delete; and, (4) All relevant documents have been made available for public review in the local Site information repositories. EPA is requesting only dissenting comments on the Direct Final Action to Delete.

For deletion on the Site, EPA's Regional Office will accept and evaluate public comments on U.S. EPA's Final Notice. If necessary, the Agency will prepare a Responsiveness Summary, responding to each significant comment submitted during the public comment period. As stated in section I above, deletion of the Site from the NPL does not itself create, alter, or revoke any individual's rights of obligations. The NPL is designed primarily for informational purposes and to assist Agency management. Further, mentioned in section II of this document, § 300.425(e)(3) of the NCP states that the deletion of a release from a site from the NPL does not preclude the Site's eligibility for future response actions.

IV. Basis for Intended Site Deletion

The Laskin/Poplar Oil Company Site is located at 717 North Poplar Street in Ashtabula County, Jefferson Township, Ohio west of the Village of Jefferson. The nine-acre site is bounded on the north by Cemetery Creek, on the south by Ashtabula County Fairground, to the east by Poplar Street, and to the west by softball fields and a wooded ravine belonging to the County of Ashtabula.

Prior to remedial action implementation the Site contained the property owner's former residence, a greenhouse complex, a boiler house containing 4 boilers formerly used to heat the greenhouses, a smokestack, 4 in-ground oil storage pits, 1 underground and 32 above ground tanks, a retention pond, two drained ponds, a fresh water pond, and miscellaneous buildings and sheds.

Greenhouses were located on the Site since the early 1890's. In the 1950's, boilers were installed to heat the greenhouse. Storage pits and tanks were installed during the 1960's to store the oil that fired the boilers. The Poplar Oil Company continued to accept waste oil from hundreds of sources in northern Ohio and western Pennsylvania throughout the 1960's and 1970's. The company resold some of the waste oil and used additional waste oil to treat gravel and dirt roads in 17 townships of Ashtabula County. In 1977, U.S. EPA and Ohio Environmental Protection Agency (OEPA) indentified polychlorinated biphenys (PCBs) in the waste oil. In 1981, a court order stopped activities at the Poplar Oil Company.

In early 1981, EPA investigated the Site and detected PCBs in waste oils, ground water and soils. In 1981 and 1982, EPA performed several removal actions at the Site. The emergency actions included draining and regrading two ponds; diverting surface runoff to a retention pond to prevent flooding; removing 302,000 gallons of waste oil taking them to an off-site incinerator; treating and discharging off site 430,000 gallons of contaminated surface water; and solidifying on site 205,000 gallons of sludge.

In 1983, the Site was placed on the EPA's Superfund National Priorities List of uncontrolled hazardous waste sites. Fund-lead Phase I remedial investigation (RI) activities were conducted from December 1983 to November 1984. In response to an Administrative Order issued in August 1984, the potentially responsible parties(PRPs) removed approximately 250,000 gallons of waste oil and wastewater during the winter of 1985-1986. A second Administrative Order was issued to the PRPs in late 1986, which ordered them to develop a work plan to address the storage pits, tank, and their contents, and surrounding soils. EPA completed Focused Feasibility Study (FFS) in August 1987. The Source Removal (SR) Record of Decision (ROD) was issued on September 30, 1987. Phase II RI activities were conducted in the fall and winter of 1987-88. A third Administrative Order was issued in February 1988 for implementing the 1987 SR ROD. The Phase II RI Report which contained the results of both the Phase I and II RI Investigations was released in December 1988. The Final Remedy (FR) FS was provided for public comment on April 7, 1989. A final remedy was selected on June 29, 1989 and documented in the FR ROD.

PRPs organized the Laskin Site Group and performed the SR and the FR remedial design and remedial actions (RD/RA) under a September 1990 Consent Decree. The SR ROD work to be performed under the 1988 Administrative Order was incorporated into the 1990 Consent Decree. Due to the incineration of different materials set forth in both RODs and the need to prepare the Site for RA activities, some FR activities were necessarily performed during the SR.

The SR ROD selected remedy consists of the following major components:

• Construction of a fence around the contaminated portions of the Site and the mobile on-site incinerator;

• Off-site treatment of all wastewater, decontamination water, and scrubber water;

• Dismantling and off-site disposal of all tanks;

• Crushing and incineration of the cinder block walls of the pits; and

• Backfilling and/or grading of all excavated areas to prevent ponding.

The components of the FR ROD consist of the following:

• Drain retention and fresh water ponds. Discharge surface water from ponds to Cemetery Creek, with treatment if required. Backfill a freshwater pond with clean fill and grade retention pond area;

• Thermally treat contaminated soil, ash, and debris from the boiler house area and dispose of ash on-site (if delistable) or off-site to a RCRA permitted landfill;

• Demolish and thermal treatment or decontamination of dioxin contaminated structures. If material cannot be thermally treated or decontaminate, contain material in an on-site concrete vault and place beneath the cap;

• Construct a groundwater diversion trench up-gradient of the contaminated oil and groundwater;

• Construct a multi-layer cap;

• De-water site by natural groundwater flow to Cemetery Creek;

• Conduct groundwater and surface water monitoring to assess quality of groundwater migrating towards Cemetery Creek; and

• Impose access and use restrictions.

The ROD and statement of work for the Consent Decree included performance standards for the FR including:

1. The on-site incinerator would meet a destruction and removal efficiency at 99.99% for solvents, miscellaneous organics, 99.999% dioxin and 99.999% for PCBS;

2. Discharges to the water in Cemetery Creek must comply with Ohio Water Quality Standards, and Federal Ambient Water Quality Criteria;

3. The goal of the groundwater diversion was to dewater the site. If the groundwater is lowered to below the top of the unweathered shale, the site would be considered dewatered. If complete site dewatering was not achieved then Federal Maximum Contaminant Levels, under the Safe Drinking Water Act, would apply at the property boundary.

In June 1991, the Remedial Design (RD) for the SR was finalized, and in the Remedial Action (RA) work was formally initiated. U.S. EPA and Ohio Environmental Protection Agency (OEPA) conducted a prefinal inspection on November 19, 1992. Incineration of all required material was completed on November 25, 1992. EPA approved the RA report on December 22, 1992.

The FR RD was formally approved and the RA work initiated in March 1992. The FR included construction of a slurry wall to facilitate site dewatering in addition to the diversion trenches provided for in the ROD. A letter dated September 21, 1993 from the PRP Laskin/Poplar Site Group certified that all RA activities were performed according to design specifications, contractor plan, and EPA and OEPA approved modifications. EPA conducted a final inspection on September 20, 1993, and approved a Preliminary Close Out Report on September 23, 1993.

Since completion of construction, the Site has been monitored and inspected in accordance with a EPA approved Inspection, Maintenance and Monitoring Plan. In accordance with this plan, quarterly groundwater and surface water monitoring was conducted in 1994, 1995, and 1996, and semi-annual groundwater and surface water monitoring was conducted in 1997 and 1998.

A five-year review pursuant to OSWER Directive 9355.7-02 (“Structure and Components of Five-Year Reviews”) was conducted at the Site and a report of its conclusions was signed in May 1999. The five-year review report concluded that the remedial action selected for this Site remains protective of human health and the environment. The review determined that groundwater monitoring conducted over the five years since completion of construction has demonstrated that the groundwater has consistently been lowered below the unweathered shale, and that the data has not identified an impact of the Site on groundwater of surface water.

V. Action

In its review of the five year review report, Engineering Management Inc., the Laskin Remedial Trust Fund's contractor correctly pointed out that the non-incinerable materials that were potentially dioxin-contaminated were decontaminated sampled, and found to contain less the 1 ppb of dioxin. As a result, it was not necessary to store any dioxin-contaminated material in a proposed vault below the cap, and this part of the remedy was eliminated. A small amount of asbestos-contaminated material was encased in what has been referred to as a “concrete vault” on site diagrams, but this vault is not the vault referred to in the ROD. The five year review found that the Site inspections have indentified a concern about slope stability, as well as routine erosion problems. The on-going inspection and maintenance program will address these problems. The next five year review should be completed by October 15, 2000.

On June 30, 1999, EPA approved discontinuing the periodic groundwater and surface water sampling. However, periodic water level monitoring, inspections, and maintenance activities will continue, and groundwater and surface water sampling can resume if necessary.

EPA, will the State of Ohio's concurrence, has determined that all appropriate Fund-financed responses under CERCLA at the Ladkin-Poplar Oil Company Superfund Site have been completed, and no further CERCLA response is appropriate or necessary in order to provide protection of human health and the environment other than the ongoing inspection, maintenance and monitoring activities. Therefore, EPA is deleting the Site from the NPL.

This action will be effective September 5, 2000. However, if EPA receives dissenting comments by August 4, 2000, EPA will publish a document that withdraws this action.

List of Subjects in 40 CFR Part 300

Environmental protection, Air pollution control, Chemicals, Hazardous substances, Hazardous Waste, Intergovernmental relations, Penalties, Reporting and recordkeeping requirements, Superfund, Water pollution control, Water supply.

Dated: June 14, 2000.
Gary Gulezian,
Acting Regional Administrator, Region 5.

Part 300, Title 40 of Chapter 1 of the Code of Federal Regulations is amended as follows:

PART 300—[AMENDED]

1. The authority citation for part 300 continues to read as follows:

Authority: 42 U.S.C. 9601-9657; 33 U.S.C. 1321(c)(2); E.O. 12777, 56 FR 54757, 3 CFR, 1991 Comp.; p.351; E.O. 12580, 52 FR 2923, 3 CFR, 1987 Comp.; p.193.

Appendix B—[Amended]

2. Table 1 of Appendix B to Part 300 is amended by removing the entry for “Laskin-Poplar Oil Co”, Jefferson Township, Ohio.

[FR Doc. 00-16513 Filed 7-3-00; 8:45 am]

BILLING CODE 6560-50-U